DEPARTMENT OF THE INTERIOR

Bureau of Indian Affairs

[189A2100DD/AAKC001030/A0A501010.999900 253G]

Proclaiming Certain Lands as Reservation for the Nottawaseppi Huron Band of the Potawatomi

AGENCY: Bureau of Indian Affairs, Interior.

ACTION: Notice of reservation proclamation.

SUMMARY: This notice informs the public that the Acting Assistant Secretary—Indian Affairs proclaimed approximately 121.01 acres, more or less, an addition to the reservation of the Nottawaseppi Huron Band of the Potawatomi of Michigan on November 24, 2017.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. These lands are proclaimed to be part of Nottawaseppi Huron Band of Potawatomi Reservation, Calhoun County, Michigan.

Reservation for the Nottawaseppi Huron Band of Potawatomi

Pine Creek I, II, III Parcels

Michigan Meridian

Calhoun County, Michigan

Legal description containing 121.01 acres, more or less

Pine Creek Parcels I, II, III (Tract 481-T-1)

The Northeast ¼ of the Southeast ¼, and the West ½ of the Southeast ¼, Section 20, Township 4 South, Range 8 West, Michigan Meridian, Michigan.

The above described lands contain a total of 121.01 acres, more or less, which are subject to all valid rights, reservations, rights-of-way, and easements of record.

This proclamation does not affect title to the lands described above, nor does it affect any valid existing easements for public roads, highways, public utilities, railroads and pipelines or any other valid easements or rights-of-way or reservations of record.

Authority: 25 U.S.C. 5110.

Dated: November 24, 2017.
John Tahsuda,
Principal Deputy Assistant Secretary—Indian Affairs, Exercising the Authority of the Assistant Secretary—Indian Affairs.

[FR Doc. 2018-03076 Filed 2-13-18; 8:45 am]

BILLING CODE 4337-15-P